DEPARTMENT OF THE INTERIOR

Office of the Secretary

Privacy Act of 1974, As Amended; Amendment of an Existing System of Records

AGENCY: Office of the Secretary, Interior.

ACTION: Proposed amendment of an existing system of records.

SUMMARY: The Office of the Secretary, Department of the Interior (DOI), is issuing public notice of its intent to amend an existing Privacy Act system of records entitled, OHA-01, “Hearings and Appeals Files.” Changes include updating information under the following headings: System location; Categories of records in the system; Routine uses of records maintained in the system; and Policies and practices for storing, retrieving, accessing, retaining and disposing of records in the system. Changes also include the renumbering of the system as OS-09, “Hearings and Appeals Files.”

EFFECTIVE DATE: Under 5 U.S.C. 552a(e)(11), the public is provided a 30-day period in which to comment on the agency's intended use of the information in the system of records. The Office of Management and Budget (OMB), in its Circular A-130, requires an additional 10-day period in which to make comments. Any persons interested in commenting on this proposed amendment may do so by submitting comments in writing to the Privacy Act Officer, Office of the Secretary, 1849 C St., NW., MS 1413 MIB, Washington, DC 20240. Comments received within 40 days of publication in the Federal Register will be considered. The system will be effective as proposed at the end of the comment period unless comments are received which would require a contrary determination. The Office of the Secretary will publish a revised notice if changes are made based upon a review of comments received.

FOR FURTHER INFORMATION CONTACT: Director, Office of Hearings and Appeals, 801 N. Quincy Street, Suite 300, Arlington, Virginia 22203, 703-235-3810.

SUPPLEMENTARY INFORMATION: OHA-01 is being amended to reflect administrative changes occurring since it was last published, including updated addresses for the Office of Hearings and Appeals (OHA) headquarters office, for its three Hearings Divisions, and for the System Manager. It is also being amended to provide additional information on the types of records assembled in hearings and appeals case files and the categories of hearings and appeals currently handled by OHA, to include several additional categories of disclosures outside the Department, and to reflect OHA's development of tracking systems to facilitate access to and to better manage the processing of hearings and appeals. Lastly, its numbering is being changed from OHA-01 to OS-9 to bring it into conformity with the current pattern of numbering Privacy Act System of Record Notices in the Office of the Secretary.

Sue Ellen Sloca,
Privacy Act Officer, Office of the Secretary.

INTERIOR/OS-09

System name:

Hearings and Appeals Files—Interior, OS-09.

System location:

(1) Director's Office and Appeals Boards: Office of Hearings and Appeals, 801 N. Quincy Street, Suite 300, Arlington, Virginia 22203.

(2) Probate Hearings Division, Office of Hearings and Appeals, 801 N. Quincy Street, Suite 300, Arlington, Virginia 22203.

(3) Departmental Cases Hearings Division, Office of Hearings and Appeals, 405 S. Main Street, Suite 400, Salt Lake City, Utah 84111.

(4) White Earth Reservation Land Settlement Act (WELSA) Hearings Division, Office of Hearings and Appeals, Bishop Henry Whipple Federal Building, 1 Federal Drive, Suite 3600A, Ft. Snelling, Minnesota 55111-4040.

Categories of individuals covered by the system:

Individuals involved or otherwise identified in hearings and appeals proceedings before the Office of the Director, Appeals Boards, and Hearings Divisions of the Office of Hearings and Appeals (OHA).

Categories of records in the system:

Information assembled in case files and docket systems pertaining to the following categories of hearings and appeals proceedings. Types of records vary from category to category and case to case, but may include correspondence; pleadings and briefs submitted by the parties; administrative record materials, other documentary evidence, and transcripts of testimony; notices, orders, and decisions issued by administrative law judges, administrative judges, and other deciding officials; names and addresses of parties; and associated docket cards and docket system data entries. During the active consideration of a case, records may also include deliberative process materials such as a judge's notes, draft orders or decisions, and comments on such drafts from other judges or staff.

Primary categories of hearings and appeals proceedings covered by OS-09:

(1) Contract disputes arising out of decisions (and failures to decide) by contracting officers considered and decided by the Interior Board of Contract Appeals.

(2) Indian probate matters, including determination of heirs, approval of wills, and proceedings relating to tribal acquisition of certain interests of decedents in trust and restricted lands, considered and decided by the Probate Hearings Division; and appeals in such matters considered and decided by the Interior Board of Indian Appeals.

(3) Heirship determinations under the White Earth Reservation Land Settlement Act of 1985 considered and decided by the WELSA Hearings Division; and appeals in such matters considered and decided by the Interior Board of Indian Appeals.

(4) Appeals pertaining to administrative actions of the Bureau of Indian Affairs considered and decided by the Interior Board of Indian Appeals.

(5) Contest proceedings and other hearings relating to the use and disposition of public lands and their resources, including land selections arising under the Alaska Native Claims Settlement Act, considered and decided by the Departmental Cases Hearings Division; appeals in such matters considered and decided by the Interior Board of Land Appeals; and appeals from decisions of the Bureau of Land Management relating to the use and disposition of public lands and their resources, considered and decided by the Interior Board of Land Appeals.

(6) Appeals from decisions of Departmental officials relating to the use and disposition of mineral resources in certain acquired lands of the United States and in the submerged lands of the Outer Continental Shelf, considered and decided by the Interior Board of Land Appeals.

(7) Hearings in appeals relating to surface coal mining and reclamation operations, considered and decided by the Departmental Cases Hearings Division; appeals in such matters considered and decided by the Interior Board of Land Appeals; and appeals from decisions of the Office of Surface Mining Reclamation and Enforcement relating to surface coal mining and reclamation operations, considered and decided by the Interior Board of Land Appeals.

(8) Hearings and appeals in various matters considered and decided by the Director or his or her designees, including employee grievance proceedings, employee debt collection matters, requests for waiver of claims for erroneous payments, determinations of employee liability for loss or damage to government property, adjustment of rental rates for government quarters, acreage limitations under the Reclamation Reform Act, relocation assistance claims, enforcement actions under the Indian Gaming Regulatory Act, and Director's review matters under 43 CFR 4.5(b).

(9) Any other hearings or appeals proceedings conducted by the Office of Hearings and Appeals under statutes or Departmental regulations providing for a hearing and/or a right to appeal within the Department.

Authority for maintenance of the system:

5 U.S.C. 301, 551 et seq.; 16 U.S.C. 791 et seq.; 25 U.S.C. 2, 9, 372, 373, 373a, 373b, 374, 2201 et seq.; 30 U.S.C. chap. 2, 3, 3A, 5, 7, 15, 16, 23, 25 and 29; 41 U.S.C. 601 et seq.; 43 U.S.C. 315a, 1201, 1331 et seq., 1601 et seq., 1701 et seq.; 43 CFR Parts 4, 45.

Routine uses of records maintained in the system, including categories of users and the purposes of such uses:

The primary purpose of the system is to support the adjudication or other resolution of administrative disputes assigned to the Office of Hearings and Appeals.

Disclosure outside DOI of final opinions rendered in the adjudication of cases is required by law and regulation (5 U.S.C. 552(a)(2), 43 CFR 2.4(c)(1)(i)). Other disclosures outside DOI may be made:

(1) To the parties to any hearing or appeal proceeding and their authorized representatives upon request or in the course of case adjudication, when the disclosure involves documents of record in the proceeding, other than documents protected from disclosure under 43 CFR 4.31;

(2)(a) To any of the following entities or individuals, when the circumstances set forth in paragraph (b) are met:

(i) The U.S. Department of Justice (DOJ):

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(3) To a congressional office in response to a written inquiry that an individual covered by the system, or the heir of such individual if the covered individual is deceased, has made to the congressional office about the individual;

(4) To the appropriate Federal agency that is responsible for investigating or prosecuting a violation of, or for enforcing or implementing, a statute, rule, regulation, or order, when we become aware of an indication of a violation or potential violation of the statute, rule, regulation, or order;

(5) To an official of another Federal agency to provide information needed in the performance of official duties related to reconciling or reconstructing data files, in support of the functions for which the records were collected and maintained;

(6) To representatives of the National Archives and Records Administration to conduct records management inspections under the authority of 44 U.S.C. 2903 and 2904;

(7) To state and local governments and tribal organizations to provide information needed in response to court order and/or discovery purposes related to litigation; and

(8) To contractors, grantees, or volunteers performing or working on a contract, grant, cooperative agreement, or job for the Federal Government related to the purposes for which the records were collected and maintained.

Disclosure to consumer reporting agencies:

Pursuant to 5 U.S.C. 552a(b)(12), records can be disclosed to consumer reporting agencies as they are defined in the Fair Credit Reporting Act.

Policies and practices for storing, retrieving, accessing, retaining, and disposing of records in the system:

Storage:

Case file records are maintained in manual form in file folders. Electronic records, including those created for the purpose of tracking case files, are maintained on the OHA computer network.

Retrievability:

Both manual and electronic records are retrieved by the name of the appellant, claimant, or other party, or by designated OHA docket number.

Safeguards:

Records are maintained in accordance with 43 CFR 2.51. Most of the records covered by this notice are in manual form. Access is provided on a need-to-know basis. Manual records are maintained in locked file cabinets under the control of authorized personnel during working hours, and according to the maintenance standards detailed in 43 CFR 2.51. Electronic records are maintained in conformity with OMB and DOI guidelines implementing the Federal Information Security Management Act. Electronic data are protected through user identification, passwords, database permissions, and software controls. These security measures establish different degrees of access to different types of users. A separate Privacy Impact Assessment for the applications was not required.

Retention and disposal:

Records are retained in accordance with approved records retention and disposal schedules. Board of Contract Appeals records are currently scheduled as Item 1, Record Category H, of the Office of the Secretary's Comprehensive Records Disposal Schedule. A new records schedule, covering these and other records covered by this notice, is under development as series 7100 of OSCODE, the Office of the Secretary comprehensive records disposal schedule.

System manager and address:

Director, Office of Hearings and Appeals, U.S. Department of the Interior, 801 N. Quincy Street, Suite 300, Arlington, Virginia 22203.

Notification procedure:

If you wish to determine if this system of records contains information about you, you must write to the System Manager at the address listed above. Your request must be in writing and signed by you. To ensure proper handling of your request, you should include the words “PRIVACY ACT INQUIRY” at the top of the first page of your letter and on the envelope in which you mail the letter, per 43 CFR 2.60.

Record access procedures:

If you wish to obtain a copy of any records that the system may contain that are about you, you must write to the System Manager at the address listed above. Your request must be in writing and signed by you. You should let us know whether you are seeking all of the records about you that may be maintained in the system, or only a specific portion of them. If you are only seeking a portion of them, you should describe those records you are seeking with sufficient detail to enable an individual familiar with the system to locate them with a reasonable amount of effort. To ensure proper handling of your request, you should include the notation “PRIVACY ACT REQUEST FOR ACCESS” at the top of the first page of your letter and on the envelope in which you mail the letter, per 43 CFR 2.63.

Contesting record procedures:

If you wish to request that any specific records that the system may contain that are about you be corrected, you must write to the System Manager at the address listed above. Your request must be in writing and signed by you. Before you make such a request, you must first have requested access to your records, and have either inspected them or obtained copies of them, as described above. You must also identify which record or portion thereof you are contesting, indicating why you believe that it is not accurate, relevant, timely, or complete, and provide a copy of any documents in your possession that support your claim with your letter. You may also propose specific language to implement the changes sought. To ensure proper handling of your request, you should include the notation “PRIVACY ACT REQUEST FOR AMENDMENT” at the top of the first page of your letter and on the envelope in which you mail the letter.

Record source categories:

Records in the system contain information submitted by all parties to the adjudication, including but not limited to appellants, claimants, grievants, and other persons involved in the hearings and appeals proceedings, and government officials.

Exemptions claimed for the system:

None.

[FR Doc. E6-20034 Filed 11-24-06; 8:45 am]

BILLING CODE 4310-79-P